DEPARTMENT OF ENERGY

Federal Energy Regulatory Commission

Combined Notice of Filings #1

Take notice that the Commission received the following electric rate filings:

Docket Numbers: ER10-1827-006; ER10-1533-016.

Applicants: Cleco Power LLC, Macquarie Energy LLC.

Description: Supplement to December 22, 2017 Updated Market Power Analysis for the Central Region of Cleco Power LLC, et al.

Filed Date: 7/13/18.

Accession Number: 20180713-5042.

Comments Due: 5 p.m. ET 8/3/18.

Docket Numbers: ER18-1632-001.

Applicants: Southwest Power Pool, Inc.

Description: Tariff Amendment: Amended Filing—Major Maintenance Cost Component to Mitigated Offers to be effective 1/15/2019.

Filed Date: 7/12/18.

Accession Number: 20180712-5174.

Comments Due: 5 p.m. ET 8/2/18.

Docket Numbers: ER18-1898-001.

Applicants: Southwest Power Pool, Inc.

Description: Tariff Amendment: 1534R8 Kansas Municipal Energy Agency NITSA NOA—Amended to be effective 6/1/2018.

Filed Date: 7/13/18.

Accession Number: 20180713-5129.

Comments Due: 5 p.m. ET 8/3/18.

Docket Numbers: ER18-2012-000.

Applicants: PJM Interconnection, L.L.C.

Description: Request of PJM Interconnection, L.L.C. for Limited Waiver.

Filed Date: 7/12/18.

Accession Number: 20180712-5131.

Comments Due: 5 p.m. ET 7/23/18.

Docket Numbers: ER18-2014-000.

Applicants: Ohio Valley Electric Corporation.

Description: Request of Ohio Valley Electric Corporation for Limited Waivers and Expedited Treatment.

Filed Date: 7/12/18.

Accession Number: 20180712-5176.

Comments Due: 5 p.m. ET 8/2/18.

Docket Numbers: ER18-2015-000.

Applicants: New York Independent System Operator, Inc.

Description: § 205(d) Rate Filing: Amended & Restated Operating Agreement re: NYISO and New York Transco to be effective 5/23/2016.

Filed Date: 7/13/18.

Accession Number: 20180713-5078.

Comments Due: 5 p.m. ET 8/3/18.

Docket Numbers: ER18-2016-000.

Applicants: PJM Interconnection, L.L.C.

Description: § 205(d) Rate Filing: Original WMPA, SA No. 5147; Queue No. AD1-144 to be effective 6/15/2018.

Filed Date: 7/13/18.

Accession Number: 20180713-5104.

Comments Due: 5 p.m. ET 8/3/18.

Docket Numbers: ER18-2017-000.

Applicants: Northern States Power Company, a Minnesota corporation.

Description: Notice of Cancellation of the Operation and Maintenance Agreement (Rates Schedule No. 501) of Northern States Power Company, a Minnesota corporation.

Filed Date: 7/13/18.

Accession Number: 20180713-5126.

Comments Due: 5 p.m. ET 8/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2018.
Kimberly D. Bose,
Secretary.

[FR Doc. 2018-15483 Filed 7-19-18; 8:45 am]

BILLING CODE 6717-01-P